DEPARTMENT OF TRANSPORTATION

Federal Highway Administration

Notice of Final Federal Agency Actions on Proposed Highway in Ohio

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. § 139(l)(1). The actions relate to a proposed highway project, the Interstate Routes 70 and 71 and interchanges, in the City of Columbus, Franklin County, State of Ohio (FRA-70-8.93, Project Identification Number 77369). Those actions grant licenses, permits, and approvals for the project.

DATES: By this notice, the FHWA is advising the public of final agency actions subject to 23 U.S.C. § 139(l)(1). A claim seeking judicial review of the Federal agency actions on the highway project will be barred unless the claim is filed on or before February 16, 2010. If the Federal law that authorizes judicial review of a claim provides a time period of less than 180 days for filing such claim, then that shorter time period still applies.

FOR FURTHER INFORMATION CONTACT: Mr. Roger Ryder, Program Delivery Engineer, Federal Highway Administration, 200 North High Street, Columbus, Ohio 43215; telephone: (614) 280-6849; e-mail: Roger.Ryder@fhwa.dot.gov; FHWA Ohio Division Office's normal business hours are 8 a.m. to 4:30 p.m. (eastern time). You may also contact Mr. Ferzan Ahmed, Ohio Department of Transportation, 400 E. William Street, Delaware, Ohio 43015; telephone: (740) 833-8367; e-mail: Ferzan.Ahmed@dot.state.oh.us.

SUPPLEMENTARY INFORMATION: Notice is hereby given that the FHWA and other Federal agencies have taken final agency actions by issuing licenses, permits, and approvals for the following major highway improvements in the State of Ohio: To reconstruct the I-70/I-71/SR 315 freeway system known as Columbus' South Innerbelt and involves changing the I-70 and I-71 lanes assignments, adding additional through lanes on I-70 and I-71 and reconfiguring the I-70/I-71/SR 315 west interchange and the I-70/I-71 east interchange. The improvements will also consolidate access to the downtown area by moving ramps to the periphery of the I-70/I-71 overlap section and compelling motorists traveling to and from downtown Columbus to use one-way urban corridor streets. Motorists will access downtown Columbus via one-way urban corridor streets that run parallel to the north side of the I-70/I-71 overlap and along both sides of I-71. These streets collect traffic from the freeway to distribute it throughout the downtown. The Mound Street corridor will be used for westbound traffic along the I-70/I-71 overlap and the Fulton Street corridor for eastbound traffic. Along I-71 traffic will utilize Lester Drive and Willow Alley for southbound traffic while northbound traffic will use a new urban corridor street parallel to Parsons Avenue. The improvements will provide for three (3) through lanes in each direction for I-70, two (2) through lanes in each direction for I-71 and the elimination of the weaving between interstate routes in the overlap section by keeping the I-70 lanes to the inside and bringing the I-71 lanes along the outside. The project length is approximately 8.7 miles.

The actions by the Federal agencies, and the laws under which such actions were taken, are described in the Environmental Assessment (EA) for the project, approved on January 14, 2009, in the Finding of No Significant Impact (FONSI) issued on July 8, 2009, and in other documents in the FHWA administrative record. The EA, FONSI, and other documents in the FHWA administrative record file are available by contacting the FHWA or the Ohio Department of Transportation at the addresses provided above. The EA and FONSI can be viewed at ODOT District 6 Office in Delaware, Ohio and on ODOT's Web site at http://www.7071study.org.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on August 13, 2009.
Patrick A. Bauer,
Acting Division Administrator, Columbus, Ohio.

[FR Doc. E9-20068 Filed 8-19-09; 8:45 am]

BILLING CODE 4910-RY-P